DEPARTMENT OF COMMERCE

National Institute of Standards and Technology

[Docket No.: 100114021-0023-01]

Voting Equipment Evaluations Phase III

AGENCY: National Institute of Standards and Technology, Commerce.

ACTION: Notice.

SUMMARY: NIST is soliciting interest in Phase III of the benchmark research for voting equipment used in an election in 2008 or later and/or certified (or submitted for certification) by the Election Assistance Commission. Manufacturers interested in participating in Phase III of this research will be asked to execute a Letter of Understanding. Interested parties are invited to contact NIST for information regarding participation, Letters of Understanding and shipping.

DATES: Manufacturers who wish to participate in the program must submit a request and an executed Letter of Understanding by 5 p.m. Eastern Standard Time on May 25, 2010.

ADDRESSES: Letters of Understanding may be obtained from and should be submitted to Benjamin Long, National Institute of Standards and Technology, Information Technology Laboratory Office, Building 222, Room B306, 100 Bureau Drive, Mail Stop 8970, Gaithersburg, MD 20899-8970. Letters of Understanding may be faxed to: Benjamin Long at (301) 975-6097.

FOR FURTHER INFORMATION CONTACT: For shipping and further information, you may telephone Benjamin Long at (301) 975-2816, or e-mail: blong@nist.gov.

SUPPLEMENTARY INFORMATION: In accordance with the provisions of the Help America Vote Act (Pub. L. 107-252), the National Institute of Standards and Technology (NIST) will be conducting Phase III research on voting equipment used in an election in 2008 or later and/or certified (or submitted for certification) by the Election Assistance Commission. NIST Phase I, NIST Phase II, and NIST Phase III research support Technical Guidelines Development Committee Resolution 05-05, Human Performance-Based Standards and Usability Testing. NIST Phase III research is designed to: (1) Develop advanced test protocols, primarily for usability and accessibility, (2) validate test protocols, and (3) support additional research and test protocol development for next generation voluntary voting system guidelines. NIST may also examine relevant instructions, documentation and error messages, without doing any direct usability studies thereon.

NIST Phase I provided research for determining initial benchmarks (see: http://vote.nist.gov/meeting-08172007/Usability-Benchmarks-080907.doc). NIST Phase II provided research to develop usability test protocols. NIST Phase III continues the research to develop and validate advanced test protocols. Interested manufacturers should contact NIST at the address given above. NIST will supply a Letter of Understanding, which the manufacturer must execute and send back to NIST. NIST will then provide the manufacturer with shipping instructions for the manufacturer's equipment. The equipment provided will be returned to the manufacturer after the NIST experiments, approximately two years from commencement of the experiments. Manufacturers should be aware that some of the testing could damage or destroy the equipment, although NIST expects only normal wear and tear. At the conclusion of the experiments, the equipment will be returned to the manufacturer in its post-testing condition. NIST, the Election Assistance Commission, and/or the Technical Guidelines Development Committee, will not be responsible for the condition of the equipment when returned to the manufacturer. As a condition for participating in this program, each manufacturer must agree in advance to hold harmless all of these parties for the condition of the equipment. Information acquired during the tests regarding potential usability problems will be reported to the respective manufacturer. Results for identifiable vendor equipment will not be released. Comparative information may be released in a blind manner. Performance standards, benchmarks and conformance test procedures will be made publicly available. NIST may transport equipment to locations off site from NIST's main campus as required for the purpose of conducting usability tests. NIST will ensure that all off site benchmark testing locations have the same or higher level of security and equipment protection procedures as the on site NIST labs located at the NIST address provided above. Participating manufacturers should include or provide a technical tutorial on the setup and deployment of the equipment. NIST will pay all shipping costs, and there is no cost to the manufacturer for the testing. No modification to the equipment is permitted during the testing process. Voting equipment in an election in 2008 or later and/or certified (or submitted for certification) by the Election Assistance Commission that will be accepted for the experiments may include direct record electronic systems, optical scan systems, accessible voting systems, tabulation and reporting systems, ballot-on-demand, or electronic poll book systems as well as software used for ballot design and creation.

Dated: March 23, 2010.
Marc G. Stanley,
Acting Deputy Director.

[FR Doc. 2010-6746 Filed 3-25-10; 8:45 am]

BILLING CODE 3510-13-P